DEPARTMENT OF ENERGY

Federal Energy Regulatory Commission

[Docket No. EC02-15-001, et al.]

Cinergy Services, Inc., et al.; Electric Rate and Corporate Regulation Filings

February 12, 2002.

Take notice that the following filings have been made with the Commission. Any comments should be submitted in accordance with Standard Paragraph E at the end of this notice.

1. Cinergy Services, Inc.

[Docket Nos. EC02-15-001 and ER02-177-002]

Take notice that on February 8, 2002, Cinergy Services, Inc. (Cinergy) tendered for filing with the Federal Energy Regulatory Commission (Commission), an amendment to its applications filed in these proceedings on October 29, 2001. This was pursuant to the Commission's January 23, 2002, order issued in the above-captioned proceedings.

Comment Date: March 1, 2002.

2. Wisconsin Power & Light Company

[Docket No. ER02-977-000]

Take notice that on February 4, 2002, Wisconsin Power & Light Company (WPL) tendered for filing with the Federal Energy Regulatory Commission (Commission) new rates to be charged under its wholesale electric tariffs W-3A, PR-1, W-4A and DLM-1 to reflect the current cost of service incurred by WPL and its subsidiary South Beloit Water, Gas and Electric Company. WPL has asked that new interim rates become effective on April 22, 2002, and new final rates become effective concurrent with the Commission's final order in this proceeding. In addition WPL requests cancellation of its bundled wholesale electric tariffs W-1, W-3 and W-4.

A copy of this filing has been served upon the Illinois Commerce Commission, the Public Service Commission of Wisconsin and the WPL wholesale electric customers affected by this filing.

Comment Date: February 25, 2002.

3. Michigan Electric Transmission Company and Consumers Energy Company

[Docket ER02-424-001]

Take notice that on February 7, 2002, Consumers Energy Company (Consumers) and Michigan Electric Transmission Company (Michigan Transco) jointly filed a supplemental notice of succession to transfer previously overlooked rate schedules from Consumers to the Michigan Transco. The parties also submitted administrative agreements involving Wolverine Electric Cooperative, Inc. that allocate rights and responsibilities between Consumers and the Michigan Transco.

By acceptance letter dated January 23, 2002, that submittal was accepted by the Commission effective April, 2001, conditioned upon compliance with Order No. 614 within 15 days of the issuance of that acceptance letter. A Compliance Filing in the referenced docket, purporting to satisfy the aforementioned condition, was made by Consumers and Michigan Transco on February 7, 2002.

A full copy of the filing was served upon the Michigan Public Service Commission, and Wolverine Power Supply Cooperative, Inc., The City of Lansing, Board of Water and Light, and City of Grand Haven, Board of Light and Power.

Comment Date: February 28, 2002.

4. Calvert Cliffs Nuclear Power Plant, Inc.

[Docket No. ER02-445-001]

Take notice that on February 7, 2002, Calvert Cliffs Nuclear Power Plant, Inc. tendered for filing an amendment to a service agreement in compliance with Order No. 614 pursuant to the order issued in this docket on January 8, 2002. The January 8 Order accepted the amendment effective November 1, 2001 upon resubmission of the filing in compliance with Order No. 614.

Comment Date: February 28, 2002.

5. Delmarva Power & Light Company

[Docket No. ER02-797-001]

Take notice that on February 7, 2002, Delmarva Power & Light Company (Delmarva) tendered for filing a revised page 3 of an executed Interconnection Agreement between Delmarva and Conectiv Delmarva Generation, Inc. (CDG). The revised page 3 eliminates references to a lease arrangement that no longer exists. Delmarva respectfully requests that the Commission allow the revised page 3 to become effective on January 23, 2002, the date on which Delmarva originally requested the Interconnection Agreement become effective.

Copies of the filing were served upon the Delaware Public Service Commission, the Maryland Public Service Commission and the Virginia State Corporation Commission.

Comment Date: February 28, 2002.

6. Alliant Energy Corporate Services, Inc.

[Docket No. ER02-975-000]

Take notice that on February 6, 2002, Alliant Energy Corporate Services, Inc., tendered for filing with the Federal Energy Regulatory Commission (Commission) four executed Service Agreements with Alliant Energy Corporate Services, Inc., establishing Alliant Energy Corporate Services, Inc., as a Long-Term Firm Transmission Customer under the terms of the Alliant Energy Corporate Services, Inc., Open Access Transmission Tariff.

Alliant Energy Corporate Services, Inc., requests effective dates of January 1, 2002, for service agreement with OASIS request numbers 853137, 969127, 969168 and 969198 and accordingly, seeks waiver of the Commission's notice requirement. A copy of this filing has been served upon the Illinois commerce commission, the Minnesota Public Utilities Commission, the Iowa Department of Commerce, and the Public Service Commission of Wisconsin.

Comment Date: February 27, 2002.

7. Alliant Energy Corporate Services, Inc.

[Docket No. ER02-979-000]

Take notice that on February 6, 2002, Alliant Energy Corporate Services, Inc., tendered for filing with the Federal Energy Regulatory Commission (Commission) an executed Service Agreement with GEN-SYS a Form of Service Agreement for Schedule 1 Service Associated With MAPP Schedule F.

Alliant Energy Corporate Services, Inc., requests an effective date of September 1, 2001, and accordingly, seeks waiver of the Commission's notice requirements. A copy of this filing has been served upon the Illinois Commerce Commission, the Minnesota Public Utilities Commission, the Iowa Department of Commerce, and the Public Service Commission of Wisconsin.

Comment Date: February 27, 2002.

8. Duke Energy Enterprise, LLC

[Docket No. ER02-984-000]

Take notice that on February 7, 2002, Duke Energy Enterprise, LLC (Duke Enterprise) tendered for filing pursuant to Section 205 of the Federal Power Act revisions to its proposed FERC Electric Tariff No. 1.

Duke Enterprise requests pursuant to Section 35.11 of the Commission's regulations that the Commission waive the 60-day minimum notice requirement under Section 35.3(a) of its regulations and grant an effective date for this application of February 8, 2002, the date on which Duke Enterprise anticipates commencing the sale of test energy.

Comment Date: February 28, 2002.

9. MidAmerican Energy Company

[Docket No. ER02-985-000]

Take notice that on February 7, 2002, MidAmerican Energy Company (MidAmerican), 401 Douglas Street, P. O. Box 778, Sioux City, Iowa 51102, filed with the Commission a Non-Firm Transmission Service Agreement with enXco, Inc., dated January 7, 2002, and entered into pursuant to MidAmerican's Open Access Transmission Tariff.

MidAmerican requests an effective date of January 7, 2002, for the Agreement and seeks a waiver of the Commission's notice requirement. MidAmerican has served a copy of the filing on the Iowa Utilities Board and enXco, Inc.

Comment Date: February 28, 2002.

10. PacifiCorp

[Docket No. ER02-986-000]

Take notice that on February 6, 2002, PacifiCorp, tendered for filing in accordance with 18 CFR 35 of the Commission's Rules and Regulations, Notice of Cancellation of Service Agreement No. 6 under PacifiCorp's FERC Electric Tariff, Volume No. 12, between PacifiCorp and Public Utility District No. 1 of Cowlitz County effective date April 28, 1997.

Copies of this filing were supplied to the Washington Utilities and Transportation Commission and the Public Utility Commission of Oregon and Public Utility District No. 1 of Cowlitz County .

Comment Date: February 28, 2002.

11. American Transmission Systems, Inc., Ohio Edison Company, The Cleveland Electric Illuminating Company, The Toledo Edison Company

[Docket No. ER02-987-000]

Take notice that on February 8, 2002, American Transmission Systems, Inc., tendered for filing on behalf of itself and Ohio Edison Company, The Cleveland Electric Illuminating Company, and The Toledo Edison Company, a Service Agreement for Network Integration Service and Operating Agreement for the Network Integration Transmission Service under the Ohio Retail Electric Program with The New Power Company pursuant to the America Transmission Systems, Inc. Open Access Tariff. This agreement will enable the party to obtain Network integration Service under the Ohio Retail Electric Program in accordance with the terms of the Tariff. The proposed effective date under this agreement is February 6, 2002.

Comment Date: March 1, 2002.

12. American Electric Power Service Corporation

[Docket No. ER02-988-000]

Take notice that on February 8, 2002, American Electric Power Service Corporation submitted for filing an executed ERCOT Generation Interconnection Agreement, dated January 11, 2002, between Central Power and Light Company (CPL) and E. I. du Pont de Nemours and Company. The agreement is pursuant to the AEP Companies' Open Access Transmission Service Tariff (OATT) that has been designated as the Operating Companies of the American Electric Power System FERC Electric Tariff Second Revised Volume No. 6, effective June 15, 2000.

CPL requests an effective date of January 12, 2002. Copies of CPL's filing have been served upon E. I. du Pont de Nemours and Company and the Public Utility Commission of Texas.

Comment Date: March 1, 2002.

13. Wisconsin Electric Power Company

[Docket No. ER02-989-000]

Take notice that on February 8, 2002, Service Agreement No. 31, effective December 20, 1995, under Wisconsin Electric Power Company's Coordination Sales Tariff, (FERC Electric Tariff Second Revised Volume 2) and Service Agreement No. 25 effective July 13, 1998, under Wisconsin Electric Power Company's Market Rate Sales Tariff, (FERC Electric Tariff Original Volume No. 8) are to be canceled as requested by the customer Entergy-Koch Trading.

Copies of the filing have been served on Entergy-Koch Trading, Michigan Public Service Commission, and the Public Service Commission of Wisconsin.

Comment Date: March 1, 2002.

14. Wisconsin Electric Power Company

[Docket No. ER02-990-000]

Take notice that on February 8, 2002, Wisconsin Electric Power Company (Wisconsin Electric), tendered for filing an electric service agreement under its Market Rate Sales Tariff (FERC Electric Tariff, Original Volume No. 8) with IDACORP Energy L.P. Wisconsin Electric respectfully requests an effective date of February 1, 2002 to allow for economic transactions.

Wisconsin Electric requests waiver of any applicable notice requirements to allow for the requested effective date as specified. Copies of the filing have been served on IDACORP Energy, L.P., the Michigan Public Service Commission, and the Public Service Commission of Wisconsin.

Comment Date: March 1, 2002.

15. Virginia Electric and Power Company

[Docket No. ER02-991-000]

Take notice that on February 8, 2002, Virginia Electric and Power Company (the Company) respectfully tendered for filing the Service Agreement by Virginia Electric and Power Company to Allegheny Energy Supply Company, LLC designated as Service Agreement No. 11 under the Company's market-based rate tariff, FERC Electric Tariff, Original Volume No. 6, effective on June 15, 2001.

The Company requests an effective date of January 28, 2002, as requested by the customer. Copies of the filing were served upon Allegheny Energy Supply Company, LLC, the Virginia State Corporation Commission, and the North Carolina Utilities Commission.

Comment Date: March 1, 2002.

16. Commonwealth Edison Company

[Docket No. ER02-992-000]

Take notice that on February 8, 2002, Commonwealth Edison Company (ComEd) submitted for filing two Form of Service Agreements for Firm Point-To-Point Transmission Service (Service Agreements) and the corresponding Network Upgrade Agreement between ComEd and MidAmerican Energy Co. (MidAmerican) under the terms of ComEd's Open Access Transmission Tariff (OATT).

ComEd requests an effective date of February 1, 2002, and accordingly seeks waiver of the Commission's notice requirements. A copy of this filing was served on MidAmerican.

Comment Date: March 1, 2002.

17. Southwest Power Pool, Inc.

[Docket No. ER02-993-000]

Take notice that on February 8, 2002, Southwest Power Pool, Inc. (SPP) submitted for filing executed service agreements for Firm Point-to-Point Transmission Service and Non-Firm Point-To-Point Transmission Service with Mirant Americas Energy Marketing, LP (Mirant).

SPP seeks an effective date of January 19, 2002, for these service agreements. Mirant was served with a copy of this filing.

Comment Date: March 1, 2002.

18. Duke Energy Corporation

[Docket No. ER02-994-000]

Take notice that on February 8, 2002, Duke Energy Corporation filed an amendment to the Restated Interchange Agreement dated February 10, 1992 between Duke Power Company and South Carolina Public Service Authority.

Comment Date: March 1, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4032 Filed 2-19-02; 8:45 am]

BILLING CODE 6717-01-P